DEPARTMENT OF THE TREASURY

Office of Foreign Assets Control

Unblocking of Specially Designated Nationals and Blocked Persons Pursuant to Executive Order 13310 and Executive Order 13448

AGENCY: Office of Foreign Assets Control, Treasury.

ACTION: Notice.

SUMMARY: The Treasury Department's Office of Foreign Assets Control (OFAC) is removing the names of three individuals whose property and interests in property have been unblocked pursuant to Executive Order 13310 and Executive Order 13448.

DATES: OFAC's actions described in this notice are effective July 9, 2015.

FOR FURTHER INFORMATION CONTACT: Associate Director for Global Targeting, tel.: 202/622-2420, Associate Director for Sanctions Policy & Implementation, tel.: 202/622-2480, Office of Foreign Assets Control, or Chief Counsel (Foreign Assets Control), tel.: 202/622-2410, Office of the General Counsel, Department of the Treasury (not toll free numbers).

SUPPLEMENTARY INFORMATION:

Electronic and Facsimile Availability

The list of Specially Designated Nationals and Blocked Persons (SDN List) and additional information concerning OFAC sanctions programs are available from OFAC's Web site (www.treasury.gov/ofac). Certain general information pertaining to OFAC's sanctions programs is also available via facsimile through a 24-hour fax-on-demand service, tel.: 202/622-0077.

Notice of OFAC Action

On July 9, 2015, OFAC, in consultation with the Department of State, determined that circumstances no longer warrant the inclusion of the following individual in the Annex to Executive Order 13448 of October 18, 2007, “Blocking Property and Prohibiting Certain Transactions Related to Burma” (E.O. 13448), and on OFAC's SDN list, and that this individual is no longer subject to the blocking provisions of Section 1(a) of E.O. 13448.

Individual

ZAW, Thidar (a.k.a. ZAW, Daw Thidar; a.k.a. ZAW, Thida), Burma; 6 Cairnhill Circle, Number 18-07, Cairnhill Crest 229813, Singapore; DOB 24 Feb 1962; citizen Burma; nationality Burma; Wife of Tay ZA (individual) [BURMA].

On July 9, 2015, OFAC, in consultation with the Department of State, pursuant to Executive Order 13310 of July 28, 2003, “Blocking Property of the Government of Burma and Prohibiting Certain Transactions” (E.O. 13310), determined that circumstances no longer warrant the inclusion of the individuals identified below on the SDN List, and that these individuals are no longer subject to the blocking provisions of Section 1(b) of E.O. 13310.

Individuals

BO, Maung; DOB 16 Feb 1945; citizen Burma; nationality Burma; Lieutenant-General; Chief of Bureau of Special Operation 4; Member, State Peace and Development Council (individual) [BURMA].

WIN, Soe; DOB 10 May 1947; citizen Burma; nationality Burma; Lieutenant-General; Prime Minister; Member, State Peace and Development Council (individual) [BURMA].

Dated: July 9, 2015.
John E. Smith,
Acting Director, Office of Foreign Assets Control.

[FR Doc. 2015-17265 Filed 7-14-15; 8:45 am]

BILLING CODE 4810-AL-P